DEPARTMENT OF THE INTERIOR

Office of the Secretary

[DOI-2021-0012; 223D0102DM, DLSN00000.000000, DS64600000, DX.64601]

Privacy Act of 1974; System of Records

AGENCY: Office of the Secretary, Interior.

ACTION: Notice of a new system of records.

SUMMARY: Pursuant to the provisions of the Privacy Act of 1974, as amended, the Department of the Interior (DOI or Department) is issuing a public notice of its intent to create a Privacy Act system of records titled, “INTERIOR/DOI-93, Reasonable Accommodation Request Records.” This system of records notice (SORN) describes DOI's collection, maintenance, and use of records related to requests for reasonable accommodation under Title VII of the Civil Rights Act of 1964 or the applicable provisions of the Americans with Disabilities Act as applied to the Federal Government through the Rehabilitation Act. This newly established system will be included in DOI's inventory of record systems.

DATES: This new system will be effective upon publication. New routine uses will be effective December 3, 2021. Submit comments on or before December 3, 2021.

ADDRESSES: You may send comments identified by docket number [DOI-2021-0012] by any of the following methods:

• Federal eRulemaking Portal: http://www.regulations.gov. Follow the instructions for sending comments.

• Email: DOI_Privacy@ios.doi.gov. Include docket number [DOI-2021-0012] in the subject line of the message.

• U.S. mail or hand-delivery: Teri Barnett, Departmental Privacy Officer, U.S. Department of the Interior, 1849 C Street NW, Room 7112, Washington, DC 20240.

Instructions: All submissions received must include the agency name and docket number [DOI-2021-0012]. All comments received will be posted without change to http://www.regulations.gov, including any personal information provided.

Docket: For access to the docket to read background documents or comments received, go to http://www.regulations.gov.

FOR FURTHER INFORMATION CONTACT: Teri Barnett, Departmental Privacy Officer, U.S. Department of the Interior, 1849 C Street NW, Washington, DC 20240, DOI_Privacy@ios.doi.gov or 202-208-1605.

SUPPLEMENTARY INFORMATION:

I. Background

The DOI Office of Human Capital is establishing a new Department-wide system of records, INTERIOR/DOI-93, Reasonable Accommodation Request Records. This system helps DOI manage records related to the processing of requests from employees and applicants for employment who are seeking a reasonable accommodation based on religious belief, disability, or other condition as required by Federal laws, regulations, and policies to ensure these individuals are provided an accommodation to the greatest extent possible as provided for in Federal law.

During a review of processes established for reasonable accommodation requests related to the Federal government's response to the COVID-19 disease, the Department identified a need for a focused SORN under the Privacy Act for records related to requests for reasonable accommodation. These records have been previously maintained under government-wide SORNs published by the Office of Personnel Management (OPM), however, it was determined to be appropriate for each agency to establish and maintain its own system of records for employee requests for reasonable accommodation. This notice covers all records and information related to requests for reasonable accommodation under Title VII of the Civil Rights Act of 1964 or the applicable provisions of the Americans with Disabilities Act as applied to the Federal Government through the Rehabilitation Act that are submitted by, or on behalf of, Federal employees and applicants for employment, and the agency decisions and actions taken on those requests.

Under Section 501 of the Rehabilitation Act of 1973 (the Rehabilitation Act), as amended, DOI must provide reasonable accommodation upon request from a qualified employee with a disability that would enable the employee to perform the essential functions of the employee's position unless no accommodation can be provided that does not impose an undue hardship on the Department. A reasonable accommodation is an adjustment or alteration that enables a qualified person with a disability to apply for a job, perform job duties, or enjoy benefits and privileges of employment. A “disability” means a physical or mental impairment that substantially limits one or more major life activities. An impairment that is episodic may constitute a disability if it substantially limits one or more major life activities when active. A qualified employee is an employee who satisfies the requisite skills, experience, education, and other job-related requirements as defined by applicable law. In other words, an employee is qualified if the employee can perform the essential functions of the employee's position with or without a reasonable accommodation.

Title VII of the Civil Rights Act of 1964 requires agencies to reasonably accommodate the sincerely held religious beliefs, observances, and practices of an employee unless doing so would impose an undue hardship to the agency. An accommodation for a sincerely held religious belief is any adjustment to the work environment that will resolve, or reduce to a reasonable level, the conflict between an employee's sincerely held religious belief, observance, or practice and an employment requirement.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains and the routine uses of each system. The INTERIOR/DOI-93, Reasonable Accommodation Request Records, SORN is published in its entirety below. In accordance with 5 U.S.C. 552a(r), DOI has provided a report of this system of records to the Office of Management and Budget and to Congress.

III. Public Participation

You should be aware your entire comment including your personally identifiable information, such as your address, phone number, email address, or any other personal information in your comment, may be made publicly available at any time. While you may request to withhold your personally identifiable information from public review, we cannot guarantee we will be able to do so.

SYSTEM NAME AND NUMBER:

INTERIOR/DOI-93, Reasonable Accommodation Request Records.

SECURITY CLASSIFICATION:

Unclassified.

SYSTEM LOCATION:

Records are maintained by the Office of Human Capital, U.S. Department of the Interior, 1849 C Street NW, Washington, DC 20240. Records are also located at DOI bureaus and offices in Washington, DC and at field locations that process reasonable accommodation requests, and at DOI contractor facilities.

SYSTEM MANAGER(S):

Director, Division of Workforce Relations, Office of Human Capital, U.S. Department of the Interior, 1849 C Street NW, MIB 4323, Washington, DC 20240.

AUTHORITY FOR MAINTENANCE OF THE SYSTEM:

5 U.S.C. 301, Departmental Regulations; Section 501 of the Rehabilitation Act of 1973, as amended (29 U.S.C. 791); Americans with Disabilities Act of 1990 (42 U.S.C. 12101 et seq.), as amended by the Americans with Disabilities Act Amendments Act of 2008 (Pub. L. 110-325); Title VII of the Civil Rights Act of 1964 (42 U.S.C. 2000e, et seq.); 29 CFR part 1630, Regulations to Implement the Equal Employment Provisions of the Americans with Disabilities Act; 29 CFR part 1640, Procedures for Coordinating the Investigation of Complaints or Charges of Employment Discrimination Based on Disability Subject to the Americans with Disabilities Act and Section 504 of the Rehabilitation Act of 1973; 29 CFR part 1614, Federal Sector Equal Employment Opportunity; 29 CFR Part. 1605, Guidelines on Discrimination Because of Religion; 29 CFR part 1635, Genetic Information Nondiscrimination Act of 2008 (Pub. L. 110-233); 5 CFR part 335, Promotion and Internal Placement; Executive Order No. 13164, Requiring Federal Agencies to Establish Procedures to Facilitate the Provision of Reasonable Accommodation; Executive Order 14043, Requiring Coronavirus Disease 2019 Vaccination for Federal Employees; and Equal Employment Opportunity Commission Management Directive 715.

PURPOSE(S) OF THE SYSTEM:

The purpose of this system is to maintain records related to the processing of requests from employees and applicants for employment who are seeking a reasonable accommodation based upon disability under the Rehabilitation Act or for a religious belief, observance, or practice under Title VII of the Civil Rights Act of 1964.

CATEGORIES OF INDIVIDUALS COVERED BY THE SYSTEM:

This system includes individuals who request reasonable accommodation, and agency officials processing or making reasonable accommodation assessments and decisions. These records also include information on authorized individuals, such as a family member, health professional, or other representative submitting the request on behalf of an individual.

CATEGORIES OF RECORDS IN THE SYSTEM:

This system maintains records related to reasonable accommodation requests, including the requester's contact information, the nature of the disability, condition or the basis for the accommodation, supporting documentation such as forms, letters, memoranda or medical records, and the request status, agency assessment, decision and related correspondence. These records may include but are not limited to:

• Name;

• Individual requester's status as an applicant, current or former employee, or other status;

• Individual requester's occupational series and grade level for which reasonable accommodation had been requested;

• Contact information such as work or personal address, phone number, and email address;

• Date a request was submitted verbally or in writing;

• Documented requests for different type(s) of reasonable accommodation requested;

• How the requested accommodation would assist in job performance;

• Supervisor's name, address, and contact information;

• Name and contact information of a family member, health professional, or other representative submitting a request on behalf of an individual;

• Medical documentation about a disability or medical condition, or other appropriate supporting information submitted or required to process the request, any other necessary request-related information, requests for medical extensions or temporary measures, and any proposed reasonable accommodation that will resolve any conflict between the employee's request and job requirements;

• Records on religious beliefs, observances or practices including descriptions of employee's belief, observance or practice, medicines or medical products that are used or not used by an employee due to a belief, observance or practice, the extent of any burden on the employee's religious exercise, and any proposed reasonable accommodation that will resolve any conflict between the employee's religious belief, observance, and practice and the job requirement;

• Name, title, and contact information of DOI officials processing, deciding or referring a request for reasonable accommodation;

• Agency decisions including whether a request was granted or denied, reasons for a denial, date a request was approved or denied, date a reasonable accommodation was provided to the individual;

• Records of type(s) of accommodation provided, as well as the source of any technical assistance;

• The amount of time taken to process a request, including whether the recommended time frames were met as outlined in the reasonable accommodation procedures;

• Records of reassignments and information such as resume, transcript, reassignment questionnaire, and/or other relevant documents; qualification information; types of position(s) to search for based on the employee's qualifications and current series and grade; highest full performance level (FPL) for reassignment; and minimal information regarding the accommodation needed; and

• Any other information that is submitted by individuals in support of requests for reasonable accommodation, or that is necessary and relevant to support agency assessments and the management of a reasonable accommodation program.

RECORD SOURCE CATEGORIES:

Records are obtained from DOI employees, applicants for employment; medical providers, health professionals, medical institutions; family members or representatives who submit requests on behalf of individuals; employee supervisors, human resources and other DOI officials. Some records may be obtained from other Federal agencies or DOI bureau and office records.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, state, territorial, local, tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, state, territorial, local, tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To state, territorial and local governments and tribal organizations to provide information needed in response to court order and/or discovery purposes related to litigation, when the disclosure is compatible with the purpose for which the records were compiled.

I. To an expert, consultant, grantee, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) Responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To another federal agency or commission with responsibility for labor or employment relations or other issues, including equal employment opportunity and reasonable accommodation issues, when that agency or commission has jurisdiction over reasonable accommodation to facilitate that agency or commission's exercise of such jurisdiction.

P. To OMB, DOJ, Department of Labor (DOL), Office of Personnel Management (OPM), Equal Employment Opportunity Commission (EEOC), Office of Special Counsel (OSC), or other federal agency or organization that has responsibility for labor or employment relations, equal employment opportunity and reasonable accommodation issues, when the agency or commission has jurisdiction over the subject matter and to obtain advice regarding statutory, regulatory, policy, and other requirements related to reasonable accommodation.

Q. To appropriate third parties contracted by DOI to facilitate mediation or other dispute resolution procedures or programs.

R. To a Federal agency or organization for purposes of procuring assistive technologies and services through the Computer/Electronic Accommodation Program, or other program, in response to a request for reasonable accommodation.

S. To a Federal agency or entity that requires information relevant or related to a reasonable accommodation decision and/or its implementation.

T. To attorneys, union representatives, or other persons designated by DOI employees in writing to represent them in a grievance, complaint, appeal, or in litigation, as appropriate and in accordance with applicable law.

U. To an authorized appeal grievance examiner, formal complaints examiner, administrative judge, equal employment opportunity investigator, arbitrator or other duly authorized official engaged in investigation, settlement, arbitration, litigation, or other process relevant to a grievance, complaint, appeal, or litigation initiated by an employee, as appropriate and in accordance with applicable law.

V. To labor organization officials when such information is relevant to personnel policies affecting employment conditions and necessary for exclusive representation by the labor organization, as appropriate and in accordance with applicable law.

W. To the Equal Employment Opportunity Commission (EEOC) when requested in connection with investigations into alleged or possible discriminatory practices in the Federal sector, examination of Federal affirmative employment programs, merit system principles, or other compliance functions vested in the EEOC.

X. To the Federal Labor Relations Authority, the General Counsel, the Federal Mediation and Conciliation Service, the Federal Service Impasses Panel, or an arbitrator when information is requested in connection with the investigations of allegations of unfair practices, matters before an arbitrator or the Federal Impasses Panel.

Y. To the Merit Systems Protection Board or the Office of the Special Counsel in connection with appeals, special studies of the civil service and other merit systems, review of rules and regulations, investigation of alleged or possible prohibited personnel practices, and other such functions promulgated in 5 U.S.C. Chapter 12, or as may be authorized by law.

Z. To another Federal agency as a prospective employer of a DOI employee upon transfer of the employee to the Federal agency.

AA. To medical personnel and first responders, to meet a bona fide emergency, including medical emergencies.

DISCLOSURE TO CONSUMER REPORTING AGENCIES:

None.

POLICIES AND PRACTICES FOR STORAGE OF RECORDS:

Electronic records are stored in secure facilities. Confidential employee records are maintained with appropriate administrative, physical and technical controls to protect individual privacy. Paper records are contained in file folders stored in file cabinets in secure office locations.

POLICIES AND PRACTICES FOR RETRIEVAL OF RECORDS:

Records may be retrieved by any of the categories of records, including name and contact information.

POLICIES AND PRACTICES FOR RETENTION AND DISPOSAL OF RECORDS:

Records in this system are maintained in accordance with Department Records Schedule (DRS) DAA-GRS-2013-0001-0004 (DRS 1.2, Item 0004)—Short-Term Human Resources Records, Reasonable Accommodation Records, Reasonable Accommodation Employee Case Files. The disposition is temporary. Records are destroyed three years after employee transfer or separation from the agency or all appeals are concluded, whichever is later, but longer retention is authorized if required for business use.

Approved destruction methods for temporary records that have met their retention period include shredding or pulping paper records, and erasing or degaussing electronic records in accordance with DOI policy and NARA guidelines.

ADMINISTRATIVE, TECHNICAL, AND PHYSICAL SAFEGUARDS:

Records contained in this system are safeguarded in accordance with 43 CFR 2.226 and other applicable security and privacy rules and policies. During normal hours of operation, paper records are maintained in locked file cabinets under the control of authorized personnel. Computer servers on which electronic records are stored are located in secured DOI controlled facilities with physical, technical and administrative levels of security to prevent unauthorized access to the DOI network and information assets. Access is only granted to authorized personnel and each person granted access to the system must be individually authorized to use the system. A Privacy Act Warning Notice appears on computer monitor screens when records containing information on individuals are first displayed. Data exchanged between the servers and the system is encrypted. Backup tapes are encrypted and stored in a locked and controlled room in a secure, off-site location.

Computerized records systems follow the National Institute of Standards and Technology privacy and security standards as developed to comply with the Privacy Act of 1974, as amended, 5 U.S.C. 552a; Paperwork Reduction Act of 1995, 44 U.S.C. 3501 et seq.; Federal Information Security Modernization Act of 2014, 44 U.S.C. 3551 et seq.; and the Federal Information Processing Standards 199: Standards for Security Categorization of Federal Information and Information Systems. Security controls include user identification, multi-factor authentication, database permissions, encryption, firewalls, audit logs, network system security monitoring, and software controls.

Access to records in the system is limited to authorized personnel who have a need to access the records in the performance of their official duties, and each user's access is restricted to only the functions and data necessary to perform that person's job responsibilities. System administrators and authorized users are trained and required to follow established internal security protocols and must complete all security, privacy, and records management training and sign the DOI Rules of Behavior.

RECORD ACCESS PROCEDURES:

An individual requesting records on himself or herself should send a signed, written inquiry to the System Manager identified above. The request must include the specific bureau or office that maintains the record to facilitate location of the applicable records. The request envelope and letter should both be clearly marked “PRIVACY ACT REQUEST FOR ACCESS.” A request for access must meet the requirements of 43 CFR 2.238.

CONTESTING RECORD PROCEDURES:

An individual requesting corrections or the removal of material from his or her records should send a signed, written request to the System Manager identified above. The request must include the specific bureau or office that maintains the record to facilitate location of the applicable records. A request for corrections or removal must meet the requirements of 43 CFR 2.246.

NOTIFICATION PROCEDURES:

An individual requesting notification of the existence of records on himself or herself should send a signed, written inquiry to the System Manager identified above. The request must include the specific bureau or office that maintains the record to facilitate location of the applicable records. The request envelope and letter should both be clearly marked “PRIVACY ACT INQUIRY.” A request for notification must meet the requirements of 43 CFR 2.235.

EXEMPTIONS PROMULGATED FOR THE SYSTEM:

None.

HISTORY:

None.

Teri Barnett,
Departmental Privacy Officer, Department of the Interior.

[FR Doc. 2021-24064 Filed 11-1-21; 4:15 pm]

BILLING CODE 4334-63-P